COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete products on the Procurement List furnished by nonprofit agencies employing persons who are blind or have other severe disabilities.

DATES: Comments must be received on or before: July 26, 2020.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products are proposed for deletion from the Procurement List:

Products

NSN(s)—Product Name(s):

3030-01-017-4340—Belt, V-shaped, EPDM Rubber, Notched/A2 Cog, Neoprene, 38.3″

3030-01-146-7057—Joined Belt, V-shaped, EPDM Rubber, VA Cross Section, Notched/A2 Cog, Neoprene, 47.96″

3030-01-200-6004—Belt, V-shaped, Joined, EPDM Rubber, RA Cross Section, Notched/A2 Cog, 42.53″

3030-01-387-5760—Belt, V-shaped, EPDM Rubber, HC41 Cross Section, Notched/A2 Cog, Neoprene, 34.58″

Mandatory Source of Supply: East Texas Lighthouse for the Blind, Tyler, TX

Contracting Activity: DLA LAND AND MARITIME, COLUMBUS, OH

NSN(s)—Product Name(s):

1670-01-235-0923—Deployment Bag, Parachute

Mandatory Source of Supply: Huntsville Rehabilitation Foundation, Huntsville, AL

Contracting Activity: DLA AVIATION, RICHMOND, VA

Michael R. Jurkowski,
Deputy Director, Business & PL Operations.

[FR Doc. 2020-13791 Filed 6-25-20; 8:45 am]

BILLING CODE 6353-01-P